DEPARTMENT OF DEFENSE

Department of the Navy

Notice of Intent to Prepare an Environmental Impact Statement for Introduction of the P-8A Multi-Mission Maritime Aircraft to the U.S. Navy Fleet and Notice of Public Scoping Meetings

AGENCY: Department of the Navy, DoD.

ACTION: Notice.

SUMMARY: Pursuant to Section 102(2)(c) of the National Environmental Policy Act (NEPA) of 1969, as implemented by the Council on Environmental Quality regulations (40 CFR parts 1500-1508), the Department of the Navy (DON) announces its intent to prepare an Environmental Impact Statement (EIS) to evaluate the potential environmental consequences of homebasing the P-8A Multi-Mission Maritime Aircraft (MMA) to the East and West Coasts of the United States and a presence, i.e., homebase or detachment, in Hawaii.

The DON proposes to replace the maritime patrol P-3C aircraft with the P-8A MMA at existing continental United States maritime patrol homebases for P-3C Orion aircraft while maintaining a maritime patrol presence in Hawaii. The purpose is to transition from P-3C patrol aircraft to the P-8A MMA at existing homebases to maximize utilization of existing infrastructure to the maximum extent practicable to facilitate a quick and efficient transition while maintaining combat readiness. Currently, P-3C patrol squadrons are based at Naval Air Station (NAS) Brunswick, ME (to be relocated in their entirety to NAS Jacksonville by 2010 as a result of the Base Realignment and Closure 2005 process); NAS Jacksonville, FL; NAS Whidbey Island, WA; Marine Corps Base Hawaii (MCBH) Kaneohe Bay, HI; with periodic detachments at NAS North Island, CA.

The proposed action is needed to transition from existing P-3C aircraft to the P-8A MMA while maintaining the Navy's overall maritime patrol capability in support of national defense objectives and policies without interruption or impediment to operations or combat readiness.

The P-8A is designed to increase combat capability utilizing a smaller force making it a more effective tool for national defense. The P-8A is a derivative of the 737 commercial aircraft and will be equipped with systems capable of performing the current P-3C missions. Introduction of the P-8A MMA aircraft will begin in 2011 and be completed by 2019.

The following have been identified as receiving sites: NAS Whidbey Island, WA, NAS Jacksonville, FL, and either MCBH Kaneohe Bay or Hickam Air Force Base, HI, with a training detachment site at NAS North Island, CA. The DON is currently evaluating a range of alternatives based on the number of squadrons homebased at each site, placement of the fleet replacement squadron, and the number of main operating bases.

DATES AND ADDRESSES: Public scoping meetings will be held to receive written comments on environmental concerns that should be addressed in the EIS. Public scoping meetings will be as follows:

1. Jacksonville, FL, Thursday, January 11, 2007, 5 p.m.-8 p.m., Holiday Inn, Orange Park, 150 Park Avenue, Orange Park, FL 32073.

2. Honolulu, HI, Thursday, January 18, 2007, 5 p.m.-8 p.m., Pacific Beach Hotel, 2490 Kalakaua Avenue, Honolulu, HI 96815.

3. Coronado, CA, Thursday, February 8, 2007, 5 p.m.-8 p.m., Coronado Public Library, 640 Orange Avenue, Coronado, CA 92118.

4. Whidbey Island, WA, Thursday, February 15, 2007, 5 p.m.-8 p.m., Oak Harbor School District Office, Board Room, 350 S. Oak Harbor Street, Oak Harbor, WA 98277.

FOR FURTHER INFORMATION CONTACT: Commander, Naval Facilities Engineering Command Atlantic Division, 6506 Hampton Blvd, Norfolk, VA 23508-1278, Attn: MMA PM, fax 757-322-4894.

SUPPLEMENTARY INFORMATION: The purpose is to transition from P-3C patrol aircraft to the P-8A MMA at existing homebases to maximize utilization of existing infrastructure to the maximum extent practicable to facilitate a quick and efficient transition while maintaining combat readiness. The P-3C which has been in service since August 1969 is quickly approaching the end of its service life.

The EIS will address the environmental impacts of the proposed action associated with basing of the P-8A MMA and associated with construction and/or renovation of buildings and other support facilities. In addition, the EIS will assess impacts on each local community and economy associated with relocation of military and contract personnel to the area to support the operation and maintenance of the P-8A MMA squadrons.

The EIS will address any potential environmental impacts associated with: water resources, air quality, biological resources, threatened and endangered species, land use, socioeconomic resources, infrastructure, and cultural resources. Further, the DON will examine potential effects on existing airspace and aircraft noise exposure levels in and around the bases. The analyses will include direct and indirect impacts, and will account for cumulative impacts from other past, present and reasonably foreseeable future actions in the site specific location.

The DON is initiating the scoping process to identify community concerns and local issues that should be addressed in the EIS. Federal, state, and local agencies, and interested parties are encouraged to provide written comments to the DON to identify specific issues or topics of environmental concern that should be addressed in the EIS. The DON will consider these comments in determining the scope of the EIS.

Written comments on the scope of the EIS should be submitted and postmarked no later than March 2, 2007, and should be mailed to: Commander, Naval Facilities Engineering Command Atlantic, 6506 Hampton Blvd., Norfolk, VA 23508-1278, Attn: MMA PM, fax 757-322-4859; or made on line at http://www.mmaeis.com.

Dated: December 21, 2006.
M. A. Harvison,
Lieutenant Commander, Judge Advocate General's Corps, U.S. Navy, Federal Register Liaison Officer.

[FR Doc. E6-22157 Filed 12-26-06; 8:45 am]

BILLING CODE 3810-FF-P